DEPARTMENT OF VETERANS AFFAIRS

[OMB Control No. 2900-0524]

Proposed Information Collection Activity: Proposed Collection; Comment Request

AGENCY: Office of Security and Law Enforcement, Department of Veterans Affairs.

ACTION: Notice.

SUMMARY: The Office of Security and Law Enforcement, Department of Veterans Affairs (VA), is announcing an opportunity for public comment on the proposed collection of certain information by the agency. Under the Paperwork Reduction Act (PRA) of 1995, Federal agencies are required to publish notice in the Federal Register concerning each proposed collection of information, including each proposed extension of a previously approved collection, and allow 60 days for public comment in response to the notice. This notice solicits comments on the information needed to document the pre-employment screening process and special background checks for applicants seeking employment as VA police officers.

DATES: Written comments and recommendations on the proposed collection of information should be received on or before May 26, 2000.

ADDRESSES: Submit written comments on the collection of information to Tanya Al-Khateeb, Office of Security and Law Enforcement (07C), Department of Veterans Affairs, 810 Vermont Avenue, NW, Washington, DC 20420. Please refer to “OMB Control No. 2900-0524” in any correspondence.

FOR FURTHER INFORMATION CONTACT: Tanya Al-Khateeb at (202) 273-5510.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, the Office of Security and Law Enforcement invites comments on: (1) whether the proposed collection of information is necessary for the proper performance of VA's functions, including whether the information will have practical utility; (2) the accuracy of the Office of Security and Law Enforcement's estimate of the burden of the proposed collection of information; (3) ways to enhance the quality, utility, and clarity of the information to be collected; and (4) ways to minimize the burden of the collection of information on respondents, including through the use of automated collection techniques or the use of other forms of information technology.

Title: VA Police Officer Pre-Employment Screening Checklist, VA Form 0120.

OMB Control Number: 2900-0524.

Type of Review: Extension of a currently approved collection.

Abstract: It is the policy of VA that no person be employed as a VA police officer who has been convicted of a serious crime or whose history reflects a disregard for laws and regulations, questionable character, or a pattern of misconduct or poor work habits. Pre-employment screening for VA police officers and full verification of qualifications and suitability has been a long-standing policy. The form provides a record of the accomplishment of pre-employment vouchering following selection standards which serve as VA's basic assurance that Federal criminal law enforcement authority is granted cautiously and responsibly.

Affected Public: State, Local or Tribal Governments, and Business or other for-profit.

Estimated Annual Burden: 300 hours.

Estimated Average Burden Per Respondent: 10 minutes.

Frequency of Response: Generally one-time.

Estimated Number of Respondents: 1,800.

Dated: March 15, 2000.
By direction of the Secretary.
Sandra McIntyre,
Management Analyst, Information Management Service.

[FR Doc. 00-7359 Filed 3-24-00; 8:45 am]

BILLING CODE 8320-01-P